DEPARTMENT OF TRANSPORTATION

Federal Aviation Administration

14 CFR Part 39

[Docket No. 92-ANE-15-AD; Amendment 39-13916; AD 2004-26-04]

RIN 2120-AA64

Airworthiness Directives; Pratt & Whitney JT8D-200 Series Turbofan Engines

AGENCY: Federal Aviation Administration (FAA), DOT.

ACTION: Final rule.

SUMMARY: The FAA is superseding existing airworthiness directive (AD) 99-22-14 for Pratt & Whitney (PW) JT8D-200 series turbofan engines. That AD currently requires removing low pressure turbine (LPT)-to-exhaust case bolts and nuts and replacement with improved LPT-to-exhaust case bolts and nuts on JT8D-209, -217, -217A, -217C, and -219 engines. That AD also requires installation of improved high pressure turbine (HPT) containment hardware on JT8D-217C, and -219 engines. This AD requires installation of improved HPT containment hardware on JT8D-209, -217, -217A, -217C, and -219 engines. This AD results from four reports of uncontained HPT failures of JT8D-200 series engines, since AD 99-22-14 was issued. We are issuing this AD to prevent uncontained HPT events resulting from HPT shaft fractures.

DATES: This AD becomes effective February 9, 2005. The Director of the Federal Register approved the incorporation by reference of certain publications listed in the regulations as of February 9, 2005. The Director of the Federal Register previously approved the incorporation by reference of certain other publications as listed in the regulations as of December 28, 1999 (64 FR 58328, October 29, 1999).

ADDRESSES: You can get the service information identified in this AD from Pratt & Whitney, 400 Main St., East Hartford, CT 06108; telephone (860) 565-7700; fax (860) 565-1605.

You may examine the AD docket at the FAA, New England Region, Office of the Regional Counsel, 12 New England Executive Park, Burlington, MA. You may examine the service information, at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html.

FOR FURTHER INFORMATION CONTACT: Keith Lardie, Aerospace Engineer, Engine Certification Office, FAA, Engine and Propeller Directorate, 12 New England Executive Park, Burlington, MA 01803-5299; telephone (781) 238-7189; fax (781) 238-7199.

SUPPLEMENTARY INFORMATION: A proposal to amend part 39 of the Federal Aviation Regulations (14 CFR part 39) was published in the Federal Register on July 15, 2004 (69 FR 42356). That action proposed to require installation of improved HPT containment hardware on JT8D-209, -217, -217A, -217C, and -219 engines in accordance with Pratt & Whitney Alert Service Bulletin (ASB) No. JT8D A6346, dated September 10, 1998, or Revision 1, dated April 23, 1999, or Revision 2, dated December 1, 1999, or Revision 3, dated May 21, 2004. We published the proposed AD in the Federal Register on July 15, 2004 (69 FR 42356).

Examining the AD Docket

You may examine the AD Docket (including any comments and service information), by appointment, between 8 a.m. and 4:30 p.m., Monday through Friday, except Federal holidays. See ADDRESSES for the location.

Comments

We provided the public the opportunity to participate in the development of this AD. We have considered the one comment received. The commenter supports the proposal.

Conclusion

We have carefully reviewed the available data, including the comment received, and determined that air safety and the public interest require adopting the AD as proposed.

Costs of Compliance

There are about 2,345 PW JT8D-200 series turbofan engines of the affected design in the worldwide fleet. We estimate that 1,143 engines are installed on airplanes of U.S. registry, and that 280 engines will be affected by this AD. We estimate that 80% of the -217C and -219 engines already have the improved HPT containment hardware installed. We also estimate that no additional labor costs will be incurred when these parts are installed during engine shop visit. Required parts will cost about $19,991 per engine. Based on these figures, we estimate the total cost of the AD to U.S. operators to be $5,597,480.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 92-ANE-15-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-11392 (64 FR 58328, October 29, 1999) and by adding a new airworthiness directive (AD), Amendment 39-13916, to read as follows:

2004-26-04 Pratt & Whitney: Amendment 39-13916. Docket No. 92-ANE-15-AD. Supersedes AD 99-22-14, Amendment 39-11392.

Effective Date

(a) This AD becomes effective February 9, 2005.

Affected ADs

(b) This AD supersedes AD 99-22-14, Amendment 39-11392.

Applicability

(c) This AD applies to Pratt & Whitney (PW) JT8D-209, -217, -217A, -217C, and -219 turbofan engines. These engines are installed on, but not limited to, Boeing 727 series and McDonnell Douglas MD-80 series airplanes.

Unsafe Condition

(d) This AD results from four reports of uncontained high pressure turbine (HPT) failures of JT8D-200 series engines, since AD 99-22-14 was issued. We are issuing this AD to prevent uncontained HPT events resulting from HPT shaft fractures.

Compliance

(e) You are responsible for having the actions required by this AD performed within the compliance times specified unless the actions have already been done.

(f) Install the improved HPT containment hardware. Use the applicable compliance schedule in Table 1 of this AD, and paragraphs 1. through 3.G. of the Accomplishment Instructions of PW Alert Service Bulletin (ASB) No. JT8D A6346, dated September 10, 1998, or Revision 1, dated April 23, 1999, or Revision 2, dated December 1, 1999, or Revision 3, dated May 21, 2004.

Table 1.—Compliance Schedule
For engine models: | Install improved HPT containment hardware:
JT8D-217C and -219 | At the next engine shop visit after the effective date of this AD, but no later than December 31, 2004.
JT8D-209, -217, and -217A | At the next engine shop visit after the effective date of this AD, but no later than December 31, 2007.

Definition

(g) For the purpose of this AD, an engine shop visit is defined as engine maintenance that involves the separation of the J and K flanges.

Alternative Methods of Compliance

(h) The Manager, Engine Certification Office, has the authority to approve alternative methods of compliance for this AD if requested using the procedures found in 14 CFR 39.19.

Material Incorporated by Reference

(i) You must use the Pratt & Whitney Alert Service Bulletins listed in Table 2 of this AD to perform the installations required by this AD. The Director of the Federal Register approved the incorporation by reference of ASB No. A6346, Revision 2 and Revision 3, listed in Table 2 of this AD in accordance with 5 U.S.C. 552(a) and 1 CFR part 51. The Director of the Federal Register previously approved the incorporation by reference of ASB No. JT8D A6346, dated September 10, 1998, and ASB No. JT8D A6346 Revision 1, dated April 23, 1999, as of December 28, 1999 (64 FR 58328, October 29, 1999). You can get copies from Pratt & Whitney, 400 Main St., East Hartford, CT 06108; telephone (860) 565-7700; fax (860) 565-1605. You can review copies at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html. Table 2 follows:

Table 2.—Incorporation by Reference
Alert service Bulletin No. | Page number(s) shown on the page | Revision level shown on the page | Date shown on the page
JT8D A6346 | ALL | Original | September 10, 1998.
Total Pages: 23
JT8D A6346 | 1,2 3 4 5,6 7-25 | 1 Original 1 Original 1 | April 23, 1999. September 10, 1998. April 23, 1999. September 10, 1998. April 23, 1999.
Total Pages: 25
JT8D A6346 | 1,2 3 4,5 6 7 | 2 Original 2 Original 1 | December 1, 1999. September 10, 1998. December 1, 1999. September 10, 1998. April 23, 1999.
| 8 9-13 14 15-21 22 23-25 | 2 1 2 1 2 1 | December 1, 1999. April 23, 1999. December 1, 1999. April 23, 1999. December 1, 1999. April 23, 1999.
Total Pages: 25
JT8D A6346 | ALL | 3 | May 21, 2004.
Total Pages: 22

Related Information

(j) None.

Issued in Burlington, Massachusetts, on December 20, 2004.
Francis A. Favara,
Acting Manager, Engine and Propeller Directorate, Aircraft Certification Service.

[FR Doc. 05-84 Filed 1-4-05; 8:45 am]

BILLING CODE 4910-13-P